DEPARTMENT OF AGRICULTURE

Forest Service

Black Hills National Forest; Lawrence, Meade, Pennington, Custer, and Fall River Counties, South Dakota; Crook and Weston Counties, Wyoming; Revision of the Land and Resource Management Plan for the Black Hills National Forest

AGENCY: Forest Service, Agriculture (USDA).

ACTION: Notice of initiating the assessment phase of the Land Management plan revision for the Black Hills National Forest.

SUMMARY: The Forest Service, U.S. Department of Agriculture, is initiating the Land Management Plan revision process, pursuant to the 2012 Planning Rule (36 CFR 219) and as directed by the National Forest Management Act, for the Black Hills National Forest (Black Hills), located in western South Dakota and northeastern Wyoming. This process will result in a revised Land Management Plan which will guide all resource management activities on the Black Hills National Forest for approximately fifteen years. This notice announces the initiation of the assessment phase, the preliminary stage of the plan revision process. Assessments will identify and consider relevant and readily accessible material about ecological, social, and economic conditions and trends in the planning area, including best available scientific information. Findings will be documented in assessment reports. Trends and conditions identified in the assessments will then help describe a need to change the existing plan and inform the revision of the Forest Plan.

DATES: In the fall and winter of 2021, the public will be invited to engage and participate in the assessment phase of the revision process; engagement opportunities will be posted on the Black Hills National Forest Planning website, located at http://www.fs.usda.gov/goto/blackhills/forestplanrevision. The Black Hills will conduct consultation with Tribes as part of the assessment phase of revision. Information will also be shared through electronic mailing lists, social media, and media outlets. If members of the public are interested in learning more, please visit the website listed above and select the link to subscribe to updates on the Black Hills Forest Plan Revision. The public can also sign up by sending an email to SM.FS.BlackhillFPR@usda.gov.

The Forest Service will produce a set of draft assessments for public review and comment, expected around March 2022. The Forest Service will review and incorporate public comments and additional information from tribal consultation on the draft assessments and produce a final set of assessments to inform plan revision for the Black Hills National Forest. The Forest Service may then initiate procedures pursuant to the National Environmental Policy Act (NEPA) to prepare a revised Land Management Plan.

ADDRESSES: For questions about Land Management Plan revision or comments on initiating the assessment phase of plan revision, please address mail to: Black Hills National Forest, Attn: Lou Conroy—Forest Plan Revision, 1019 N 5th Street, Custer, SD 57730, or via email to SM.FS.BlackhillFPR@usda.gov. All correspondence, including names and addresses, will be part of the public record.

More information on the planning process can also be found on the Black Hills National Forest Planning website at http://www.fs.usda.gov/goto/blackhills/forestplanrevision.

FOR FURTHER INFORMATION CONTACT: Lou Conroy, Revision Team Leader, at louie.conroy@usda.gov or by phone at (605) 673-9200.

Individuals who use telecommunication devices for the deaf/hard-of-hearing (TDD) may call the Federal Information Relay Service (FRS) at 1-800-877-8339, 24 hours a day, every day of the year, including holidays.

SUPPLEMENTARY INFORMATION: The National Forest Management Act (NFMA) of 1976 requires that the Forest Service develop a Land and Resource Management Plan, often called a Forest Plan, for every national forest. Forest Plans provide the strategic direction for management of forest resources and are amendable as conditions change over time.

The Black Hills Forest Plan was first released in 1983, revised in 1997, and amended in 2006. The 2006 version serves as the current Forest Plan for the Black Hills National Forest.

This notice announces the start of the first stage of the process, during which updated information from the public, Tribes, other government agencies, and non-governmental parties, will be compiled into assessment reports. Information relevant to these reports typically includes the status and trends of ecological, social, and economic conditions within the planning area and across the broader landscape. Federal Regulation (36 CFR 219.6) requires the assessment of (1) Terrestrial ecosystems, aquatic ecosystems, and watersheds; (2) Air, soil, and water resources and quality; (3) System drivers, including dominant ecological processes, disturbance regimes, and stressors, such as natural succession, wildland fire, invasive species, and climate change, and the ability of terrestrial and aquatic ecosytems in the plan area to adapt to change; (4) Baseline assessment of carbon stocks; (5) Threatened, endangered, proposed, and candidate species, and potential species of conservation concern present in the plan area; (6) Social, cultural, and economic conditions; (7) Benefits people obtain from the national forest system planning area (ecosystem services); (8) Multiple uses and their contributions to local, regional, and national economies; (9) Recreation settings, opportunities and access, and scenic character; (10); Renewable and nonrenewable energy and mineral resources; (11) Infrastructure, such as recreational facilities and transporation and utility corridors; (12) Areas of tribal importance; (13) Cultural and historic resources and uses; (14) Land status and ownership and access patterns; and (15) Existing designated areas located in the plan area including wilderness and wild and scenic rivers and potential need and opportunity for additional designated areas.

During this assessment phase, the Forest Service invites other government agencies, Tribes, non-governmental parties, and the public to share information about social, economic, and environmental conditions of the Black Hills National Forest and the broader landscape. Existing information about conditions on the Black Hills National Forest, supplemented with information gathered through public engagement and tribal consultation, will be integrated into final resource assessments. The Forest Service will host public outreach forums to share progress and gather additional information.

Responsible Official: The responsible official for the revision of the land and resource management plan for the Black Hills National Forest is Jeff Tomac, Forest Supervisor, Black Hills National Forest, 1019 N 5th Street, Custer, SD 57730, phone 605-673-9200.

Dated: September 27, 2021.
Barnie Gyant,
Associate Deputy Chief, National Forest System.

[FR Doc. 2021-22537 Filed 10-14-21; 8:45 am]

BILLING CODE 3411-15-P